DEPARTMENT OF THE INTERIOR

Fish and Wildlife Service

Notice of Availability of the Draft Recovery Plan for Fritillaria Gentneri (Gentner's fritillary) for Review and Comment

AGENCY: Fish and Wildlife Service, Interior.

ACTION: Notice of document availability.

SUMMARY: We, the U.S. Fish and Wildlife Service, announce the availability for public review of the draft recovery plan for Fritillaria gentneri (Gentner's fritillary). Gentner's fritillary is restricted to southwestern Oregon, where it is known from scattered localities in the Rogue and Illinois River drainages in Jackson and Josephine Counties. The species is highly localized within a 48-kilometer (30-mile) radius of the Jacksonville Cemetery in Jacksonville, Oregon (the Jacksonville Cemetery harbors one of the largest known Fritillaria gentneri populations and serves as a convenient center reference point for the species' range). The majority of known individuals (about 73 percent) occur within an 11-kilometer (7-mile) radius of the Jacksonville Cemetery. Fritillaria gentneri has a distribution characterized by several distinct clusters of occurrences, as well as two outlying occurrences in the northeast and southeast corners of its range. We solicit review and comment from the public on this draft recovery plan.

DATES: Comments on the draft recovery plan must be received by January 21, 2003 to receive consideration by us.

ADDRESSES: Persons wishing to review the draft recovery plan may obtain a copy by contacting the U.S. Fish and Wildlife Service, Oregon State Office at 2600 SE. 98th Avenue, Suite 100, Portland, Oregon 97266-1398. If you wish to comment, you may submit your comments and materials concerning this draft revised recovery plan to the Field Supervisor at the address above.

FOR FURTHER INFORMATION CONTACT: Andy Robinson, Fish and Wildlife Biologist, at the address above or at 503-231-6179.

SUPPLEMENTARY INFORMATION:

Background

Restoring an endangered or threatened animal or plant to the point where it is again a secure, self-sustaining member of its ecosystem is a primary goal of our Endangered Species Program. To help guide the recovery effort, we are working to prepare recovery plans for most listed species native to the United States. Recovery plans describe actions considered necessary for conservation of the species, establish recovery criteria for reclassification and delisting species, and estimate time and cost for implementing the recovery measures needed.

The Endangered Species Act (Act) (16 U.S.C. 1531 et seq.) requires the development of recovery plans for listed species unless such a plan would not promote the conservation of a particular species. Section 4(f) of the Act requires that public notice, and an opportunity for public review and comment, be provided during recovery plan development. We will consider all information presented during a public comment period prior to approval of each new or revised recovery plan. We, along with and other Federal agencies, will also take these comments into account in the course of implementing approved recovery plans. Individual responses to comments will not be provided.

Fritillaria gentneri, also known as Gentner's fritillary and Gentner's mission-bells, is a member of the lily family (Liliaceae) with showy, deep red to maroon flowers. Fritillaria gentneri is a perennial herb arising from a fleshy bulb. Non-flowering individuals vastly outnumber flowering plants in natural populations, and are recognizable only by their single basal leaves, which appear virtually identical to those of other co-occurring Fritillaria species. Considered a mid-successional species, Fritillaria gentneri occupies grassland and chaparral habitats within, or on the edges of, dry, open, mixed-species woodlands at elevations below 1,360 meters (4,450 feet). The species is threatened by a variety of factors including habitat loss associated with rapidly expanding residential and agricultural development, alteration of habitat by invasive weeds and successional encroachment by trees and brush, habitat disturbance from timber harvest and recreational activities, and vulnerability associated with extremely small population sizes. Other potential threats include bulb collecting for gardens, herbivory by deer, and fungal pathogens. Conservation needs include establishing a network of protected populations in natural habitat distributed throughout its native range.

This plan identifies four Recovery zones. Recovery zones are geographically bounded areas containing extant Fritillaria gentneri populations that are the focus of recovery actions or tasks. Recovery zones include lands both essential and not essential to the long-term conservation of Fritillaria gentneri.

The overall objective of this recovery plan is to reduce the threats to Fritillaria gentneri to the point where it can be reclassified to threatened, with the ultimate goal of being removed from the Act's protection entirely.

Recovery of Fritillaria gentneri would be contingent upon the following criteria: each recovery zone would maintain at least 750 flowering plants for reclassification to threatened status, 1,000 flowering Fritillaria gentneri per zone would be a basis for delisting under the following criteria are met:

(1) To avoid the threat of habitat loss, the reserve areas within the recovery zones identified for recovery should be located on public land, or private land subject to permanent conservation easement or other permanently binding conservation agreements. Because populations elsewhere on public land continue to experience loss and degradation of habitat, each agency involved in land ownership or management in association with reserve areas should take appropriate steps to ensure the long term conservation of this species by outlining their specific responsibilities for site protection and maintenance in land management plans, conservation agreements, and the like.

(2) To remove threats inherent among populations comprised of too few and too widely scattered individuals, 2 of the reserve areas within each recovery zone would have to consist of at least 100 flowering individuals within a 0.8-kilometer (0.5-mile) radius, and exhibit net demographic stability or growth for at least 15 years, as determined through annual demographic monitoring. For the purposes of this plan, measurements of population size and structure are based only on flowering individuals because non-flowering plants cannot be reliably identified to species. If necessary, a reserve area would be subject to augmentation using genetically appropriate cultivated individuals to meet the minimum size criterion. Reserves should contain ample habitat to provide a spatial buffer around each population, and allow room for population migration and expansion over time.

(3) To avoid population vulnerability arising from the inordinate concentration of individuals within a very small area, potentially subject to unpredictable catastrophic events, flowering individuals must be distributed over a minimum of 500 square meters (0.05 hectares or 0.12 acres) of occupied habitat ¹ within each recovery area. Thus, reserve populations may have more than the minimum of 1,000 flowering individuals if their distribution, densely confined to a small area, falls short of the occupied habitat requirement.

¹ “Occupied habitat” is defined based on a vegetation sampling procedure employed by the Service using 1 meter by 1 meter plots that are scored for the presence or absence of Fritillaria gentneri. A plot with one or more Fritillaria gentneri flowering stems is considered a square meter of occupied habitat.

(4) To maintain favorable habitat conditions, a site-specific habitat management plan would be developed for each reserve area to prevent colonization of invasive weeds and maintain favorable mid-successional characteristics.

(5) To protect plants from bulb collecting and herbivory by deer, each reserve area would be subject to fencing or other measures if annual population monitoring determine the severity of these threats.

(6) To protect plants from fungal disease, each reserve area would be subject to treatment with fungicides or other measures if annual population monitoring to evaluate the severity of the fungal disease threat.

Public Comments Solicited

We solicit written comments on the recovery plan described. All comments received by the date specified above will be considered prior to approval of this plan.

Authority

The authority for this action is section 4(f) of the Endangered Species Act, 16 U.S.C. 1533(f).

Dated: August 30, 2002.
Rowan W. Gould,
Acting Regional Director, Region 1, U.S. Fish and Wildlife Service.

[FR Doc. 02-29734 Filed 11-21-02; 8:45 am]

BILLING CODE 4310-55-P